DEPARTMENT OF AGRICULTURE

Foreign Agricultural Service

Refined Sugar Re-Export Program

AGENCY: Foreign Agricultural Service, USDA.

ACTION: Request for comment.

The Foreign Agricultural Service (FAS) requests comments on a proposed temporary waiver of certain provisions of the Refined Sugar Re-Export Program. Due to Hurricane Katrina, major disruptions to some U.S. sugar refining operations have occurred and seriously impacted sugar trade, including exports. In response, and using the waiver authority under sugar re-export program found at 7 CFR 1530.113 for licensed refiners, FAS proposes to temporarily extend from 90 days to 270 days the period in which licensed refiners must export or transfer an equivalent amount of refined sugar, after entering a quantity of raw can sugar, if such entry results in a positive balance to their license. Comments are welcomed regarding whether the waiver should be made or not, or about details of the terms of such a proposed waiver. Comments to this notice should be submitted within October 5, 2005 to Ron Lord, Deputy Director, Import Policies and Programs Division, Foreign Agricultural Service, USDA, 202-720-2916, by fax to 202-720-0876, or by e-mail to Ronald.lord@usda.gov.

Dated: September 21, 2005.
W. Kirk Miller,
Acting Administrator, Foreign Agricultural Service.

[FR Doc. 05-19577 Filed 9-29-05; 8:45 am]

BILLING CODE 3410-10-M